DEPARTMENT OF TRANSPORTATION

Office of the Secretary

Applications of Prescott Support Company, Inc., for Certificate Authority

AGENCY: Department of Transportation.

ACTION: Notice of Order to Show Cause (Order 2008-10-27),Dockets DOT-OST-2008-0187 and DOT-OST-2008-0188.

SUMMARY: The Department of Transportation is directing all interested persons to show cause why it should not issue orders finding Prescott Support Company, Inc., fit, willing, and able, and awarding it certificates of public convenience and necessity to engage in interstate and foreign charter air transportation of property and mail.

DATES: Persons wishing to file objections should do so no later than.

ADDRESSES: Objections and answers to objections should be filed in Dockets DOT-OST-2008-0187 and DOT-2008-0188 and addressed to U.S. Department of Transportation Dockets, 1200 New Jersey Avenue, SE., West Building Ground Floor, Rm. W12-140, Washington, DC 20590, and should be served upon the parties listed in Attachment A to the order.

FOR FURTHER INFORMATION CONTACT: Mr. Scott A. Faulk, Air Carrier Fitness Division (X-56, Room W86-487), U.S. Department of Transportation, 1200 New Jersey Avenue, SE., West Building, Washington, DC 20590, (202) 366-9967.

Dated: October 22, 2008.
Michael W. Reynolds,
Acting Assistant Secretary for Aviation and International Affairs.

[FR Doc. E8-25757 Filed 10-28-08; 8:45 am]

BILLING CODE 4910-9X-P